DEPARTMENT OF THE TREASURY

Fiscal Service

Financial Management Service; Senior Executive Service; Financial Management Service Performance Review Board

AGENCY: Financial Management Service, Fiscal Service, Treasury.

ACTION: Notice.

SUMMARY: This notice announces the appointment of members to the Financial Management Service (FMS) Performance Review Board (PRB).

DATES: This notice is effective on August 13, 2002.

FOR FURTHER INFORMATION CONTACT: Kenneth R. Papaj, Deputy Commissioner, Financial Management Service, 401 14th Street, SW., Washington, DC; telephone (202) 874-7000.

SUPPLEMENTARY INFORMATION: Pursuant to 5 U.S.C. 4314(c)(4), this notice is given of the appointment of individuals to serve as members of the Financial Management Service (FMS) Performance Review Board (PRB). The FMS PRB reviews the performance appraisals of career senior executives below the Assistant Commissioner level and makes recommendations regarding ratings, bonuses, and other personnel actions. Four voting members constitute a quorum. The names and titles of the FMS PRB members are as followings:

Primary Members

Kenneth R. Papaj, Deputy Commissioner; Nancy C. Fleetwood, Assistant Commissioner, Information Resources; Bettsy H. Lane, Assistant Commissioner, Federal Finance; James Mills, Assistant Commissioner, Debt Management Service; Anthony Torrice, Assistant Commissioner, Regional Operations.

Alternate Members

Scott Johnson, Assistant Commissioner, Management (Chief Finance Officer); Donald J. Sturgill, Assistant Commissioner, Governmentwide Accounting Operations; Judith R. Tillman, Assistant Commissioner, Financial Operations.

Dated: August 7, 2002.
Kenneth R. Papaj,
Acting Commissioner.

[FR Doc. 02-20401 Filed 8-12-02; 8:45 am]

BILLING CODE 4810-35-P